JUDICIAL CONFERENCE OF THE UNITED STATES

Hearings of the Judicial Conference Advisory Committee on Rules of Civil Procedure

AGENCY: Judicial Conference of the United States, Advisory Committee on Rules of Civil Procedure.

ACTION: Notice of cancellation and rescheduling of meeting.

Changes in the Meeting: Due to emergency weather and travel conditions, the meeting of the Advisory Committee on Rules of Civil Procedure scheduled for Thursday, November 1 and Friday, November 2, 2012 has been rescheduled to take place on Friday, November 2, 2012 at 11:00 a.m. in the Mecham Conference Center at the Administrative Office of the U.S. Courts, Washington, DC. Certain committee members will participate by videoconference. All members of the public who are unable to come to the Mecham Center may contact the Rules Committee Support Office to make arrangements to attend the meeting via teleconference. The meeting was previously announced in the Federal Register at 77 FR 12077, February 28, 2012.

ADDRESSES: The Mecham Conference Center is located on the first floor of the Administrative Office of the U.S. Courts at 1 Columbus Circle NE., Washington, DC 20544.

FOR FURTHER INFORMATION CONTACT: Jonathan C. Rose, Chief Rules Officer, Administrative Office of the United States Courts, Washington, DC 20544, telephone (202) 502-1820.

Dated: October 31, 2012.
Jonathan C. Rose,
Chief Rules Officer.

[FR Doc. 2012-26945 Filed 11-1-12; 11:15 am]

BILLING CODE 2210-55-P